DEPARTMENT OF HEALTH AND HUMAN SERVICES

[Document Identifier: OS-4040-0001]

Agency Information Collection Request: 60-Day Public Comment Request

AGENCY: Office of the Secretary, Health and Human Services (HHS).

ACTION: Notice.

SUMMARY: In compliance with the requirement of the Paperwork Reduction Act of 1995, the Office of the Secretary (OS), Department of Health and Human Services, is publishing the following summary of a proposed collection for public comment.

DATES: Comments on the ICR must be received on or before September 7, 2021.

ADDRESSES: Submit your comments sagal.musa@hhs.gov or by calling (202) 205-2634.

FOR FURTHER INFORMATION CONTACT: When submitting comments or requesting information, please include the document identifier 4040-0001-Revision-60D and project title for reference, to Sagal Musa, email: sagal.musa@hhs.gov, or call (202) 205-2634 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: SBIR/STTR Information.

Type of Collection: Revision of A Currently Approved Collection.

OMB No.: 4040-0001.

Abstract: The SBIR (Small Business Innovation Research)/STTR (Small Business Technology Transfer) program is designed to stimulate technological innovation in the private sector by strengthening the role of small business, increasing the commercial application of federally supported research results, as well as fostering and encouraging participation by socially and economically disadvantaged and women-owned small businesses. This form is used by grant applicants to apply for SBIR/STTR-related grants. Grants.gov seeks to include a question regarding the use of SBIR/STTR funds for Technical and Business Assistance (TABA).

Annualized Burden Hour Table
Forms (If necessary) | Respondents (If necessary) | Number of respondents | Number of responses per respondents | Average burden per response | Total burden hours
SBIR/STTR Information | Grant Applicants | 6,376 | 1 | 1 | 6,376
Total |  | 6,376 | 1 | 1 | 6,376

Sherrette A. Funn,
Paperwork Reduction Act Reports Clearance Officer, Office of the Secretary.

[FR Doc. 2021-14436 Filed 7-6-21; 8:45 am]

BILLING CODE 4151-AE-P